DEPARTMENT OF THE INTERIOR

Bureau of Land Management

[LLORE00000.L63340000.AL0000.16XL1109AF. HAG 16-0214]

Notice of Public Meeting for the Northwest Oregon Resource Advisory Council

AGENCY: Bureau of Land Management, Interior.

ACTION: Notice of public meeting.

SUMMARY: In accordance with the Federal Land Policy and Management Act and the Federal Advisory Committee Act, the Bureau of Land Management's (BLM) Northwest Oregon Resource Advisory Council (RAC) will meet as indicated below.

DATES: The RAC will meet on Thursday through Friday, October 13-14, 2016, from 9 a.m. to 5 p.m. and Thursday, October 20, 2016, from 9 a.m. to 5 p.m. The RAC members will review and select Secure Rural Schools Title II project proposals for the counties in Northwest Oregon. They will also receive an overview of the Record of Decision (ROD) for the Western Oregon Resource Management Plans (RMP) and consider recreation subcommittee work. The October 14 and 20 meetings will be held at the BLM Salem District Office, 1717 Fabry Rd SE., Salem, OR 97306. The October 13 meeting will be held at the BLM Eugene District Office, 3106 Pierce Parkway Suite E, Springfield, OR 97477. The public comment period will occur from 12:30 p.m. to 1:00 p.m. each meeting day.

FOR FURTHER INFORMATION CONTACT: Jennifer Velez, Coordinator for the Northwest Oregon RAC, 1717 Fabry Road SE., Salem, OR 97306, (541) 222-9241, jvelez@blm.gov. Persons who use a telecommunications device for the deaf (TDD) may call the Federal Information Relay Service (FIRS) at 1 (800) 877-8339 to contact the above individuals during normal business hours. The FIRS is available 24 hours a day, 7 days a week, to leave a message or question with the above individuals. You will receive a reply during normal business hours.

SUPPLEMENTARY INFORMATION: The fifteen-member Northwest Oregon RAC was chartered to serve in an advisory capacity concerning the planning and management of the public land resources located within the BLM's Salem and Eugene Districts. Members represent an array of stakeholder interests in the land and resources from within the local area and statewide. Planned agenda items include reviewing and voting on Secure Rural Schools project submissions for each county in Northwest Oregon. On each day of the three day meeting, members of the public will have the opportunity to make comments to the RAC during a public comment period. All advisory committee meetings are open to the public. Persons wishing to make comments during the public comment period should register in person with the BLM, at the meeting location, preceding that meeting day's comment period. Depending on the number of persons wishing to comment, the length of comments may be limited. The public may send written comments to the RAC at the Salem District office, 1717 Fabry Road SE., Salem, OR 97306. The BLM appreciates all comments.

Kim Titus,
Salem District Manager.

[FR Doc. 2016-21821 Filed 9-9-16; 8:45 am]

BILLING CODE 4310-33-P